DEPARTMENT OF COMMERCE

National Oceanic and Atmospheric Administration

Fisheries of the South Atlantic; South Atlantic Fishery Management Council and Mid-Atlantic Fishery Management Council; Public Meeting; Correction

AGENCY: National Marine Fisheries Service (NMFS), National Oceanic and Atmospheric Administration (NOAA), Commerce.

ACTION: Notice of correction of a public meeting notice.

SUMMARY: The South Atlantic Fishery Management Council, in conjunction with the Mid-Atlantic Fishery Management Council, will hold a Question and Answer (Q&A) public meeting to address cobia management issues in Kill Devil Hills, NC.

DATES: The Cobia Q&A public meeting will be held beginning at 6 p.m. on May 9, 2016.

ADDRESSES:

Meeting address: The meeting will be held at the Hilton Garden Inn Outer Banks/Kitty Hawk, 5353 N. Virginia Dare Trail, Kitty Hawk, NC 27949; phone: (252) 261-1290; fax: (252) 255-0153. The meeting will be broadcast via webinar as it occurs. Registration is required and information will be posted on the South Atlantic Council's Web site at www.safmc.net as it becomes available.

Council addresses: South Atlantic Fishery Management Council, 4055 Faber Place Drive, Suite 201, N. Charleston, SC 29405; Mid-Atlantic Fishery Management Council, 800 North State Street, Suite 201, Dover, DE 19901.

FOR FURTHER INFORMATION CONTACT: Kim Iverson, Public Information Officer, SAFMC; phone: (843) 571-4366 or toll free: (866) SAFMC-10; fax: (843) 769-4520; email: kim.iverson@safmc.net.

SUPPLEMENTARY INFORMATION: The original notice published in the Federal Register on April 15, 2016 (81 FR 22214). In the SUPPLEMENTARY INFORMATION, it stated that the 2015 recreational catch was 1,540,775 pounds, 123% over the recreational Annual Catch Limit (ACL) of 690,000 pounds. It should read the 2015 recreational catch was 1,540,775 pounds, 123% over the recreational Annual Catch Limit (ACL) of 630,000 pounds. All other previously published information remains the same.

Dated: April 19, 2016.
Tracey L. Thompson,
Acting Deputy Director, Office of Sustainable Fisheries, National Marine Fisheries Service.

[FR Doc. 2016-09426 Filed 4-21-16; 8:45 am]

BILLING CODE 3510-22-P